DEPARTMENT OF COMMERCE

International Trade Administration

[A-533-845]

Glycine from India: Postponement of Final Determination of Antidumping Duty Investigation

AGENCY: Import Administration, International Trade Administration, Department of Commerce

EFFECTIVE DATE: December 7, 2007.

FOR FURTHER INFORMATION CONTACT: George Callen or Kristin Case, AD/CVD Operations, Office 5, Import Administration, International Trade Administration, U.S. Department of Commerce, 14th Street and Constitution Avenue, NW, Washington, DC 20230; telephone: (202) 482-0180 and (202) 482-3174, respectively.

SUPPLEMENTARY INFORMATION:

Postponement of Final Determination

On April 19, 2007, the Department of Commerce (the Department) initiated the antidumping duty investigations of Glycine from India, Japan, and the Republic of Korea. See Glycine from India, Japan, and the Republic of Korea: Initiation of Antidumping Duty Investigations, 72 FR 20816 (April 26, 2007). The notice of initiation stated that the Department would issue its preliminary determinations for these investigations no later than 140 days after the date of initiation (i.e., September 6, 2007), unless postponed, in accordance with section 733(b)(1)(A) of the Tariff Act of 1930, as amended (the Act). On August 23, 2007, in response to a timely request from the petitioner, Geo Speciality Chemicals, Inc., we postponed the preliminary determination to October 26, 2007. See Glycine from India: Postponement of Preliminary Determination of Antidumping Duty Investigation, 72 FR 48257 (August 23, 2007). On October 26, 2007, and November 1, 2007, we issued our affirmative preliminary and amended preliminary determinations in this investigation, respectively. See Notice of Preliminary Determination of Sales at Less Than Fair Value: Glycine from India, 72 FR 62827 (November 7, 2007), and Notice of Amended Preliminary Determination of Sales at Less Than Fair Value: Glycine from India, 72 FR 62826 (November 7, 2007).

On November 2, 2007, and November 9, 2007, Paras Intermediates Pvt. Ltd. (Paras), the only respondent that received a calculated rate in the preliminary determination of this investigation, made timely requests for a postponement of the final determination pursuant to section 735(a)(2) of the Act and extension of provisional measures with respect to glycine from India. See also 19 CFR 351.210(b)(2)(ii) and 19 CFR 351.210(e)(2). Paras requested postponement of the final determination in order to allow sufficient time to prepare for verification and to ensure the Department adequate time to conduct its verification, which was scheduled originally during a period which coincided with an important Indian holiday.

For the reasons identified by Paras and because there are no compelling reasons to deny the request, the Department is postponing the deadline for the final determination with respect to India under section 735(a)(2) of the Act to 135 days after the date on which the preliminary determination was published. The date of the final determination will be no later than March 21, 2008. The Department is also extending the provisional measures accordingly.

This notice is issued and published pursuant to sections 735(a)(2) and 771(i)(1) of the Act and 19 CFR 351.210(g).

Dated: November 30, 2007.
David M. Spooner,
Assistant Secretary for Import Administration.

[FR Doc. E7-23804 Filed 12-6-07; 8:45 am]

BILLING CODE 3510-DS-S